DEPARTMENT OF JUSTICE

Antitrust Division

Notice Pursuant to the National Cooperative Research and Production Act of 1993—PDF Association, Inc.

Notice is hereby given that, on November 11, 2021, pursuant to Section 6(a) of the National Cooperative Research and Production Act of 1993, 15 U.S.C. 4301 et seq. (“the Act”), the PDF Association, Inc. (PDFa) has filed written notifications simultaneously with the Attorney General and the Federal Trade Commission disclosing additions or changes to its standards development activities. The notifications were filed for the purpose of extending the Act's provisions limiting the recovery of antitrust plaintiffs to actual damages under specified circumstances.

The name and principal place of business of the standards development organization is: PDF Association, Inc., 10 Longfellow Road, Winchester, MA. The nature and scope of the PDF Association's standards development activities are: The standardization of terminology, definitions, formats, and procedures for the production and use of PDF documents, metadata associated with the PDF documents, storage and retrieval of information. Standards, recommended practices, technical reports, white papers, and application notes prepared in accordance with the PDF Association's policies and procedures are intended to have broad acceptance as well as provide the basis upon which to achieve international accord in the development of industry standards. The PDF Association will also coordinate its work with that of other existing ANSI accredited organizations and committees working in related areas.

Suzanne Morris,
Chief, Premerger and Division Statistics, Antitrust Division, Department of Justice.

[FR Doc. 2022-00578 Filed 1-12-22; 8:45 am]

BILLING CODE 4410-11-P